DEPARTMENT OF COMMERCE

National Oceanic and Atmospheric Administration

[I.D. 120302B]

Marine Mammals; File No.782-1676-00

AGENCY: National Marine Fisheries Service (NMFS), National Oceanic and Atmospheric Administration (NOAA), Commerce.

ACTION: Issuance of permit.

SUMMARY: Notice is hereby given that National Marine Mammal Laboratory, 7600 Sand Point Way N.E., BIN C15700, Seattle, WA, 98115 has been issued a permit to take Alaskan harbor seals and spotted seals for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;Alaska Region, NMFS, P.O. Box 21668, Juneau, AK 99802-1668; phone (907)586-7221; fax (907)586-7249;

FOR FURTHER INFORMATION CONTACT: Carrie Hubard or Ruth Johnson, (301)713-2289.

SUPPLEMENTARY INFORMATION: On July 12, 2002, notice was published in the Federal Register (67 FR 46179) that a request for a scientific research permit to take Alaskan harbor seals (Phoca vitulina) and spotted seals (Phoca largha) had been submitted by the National Marine Mammal Laboratory. The requested permit has been issued under the authority of the Marine Mammal Protection Act of 1972, as amended (16 U.S.C. 1361 et seq.) and, the Regulations Governing the Taking and Importing of Marine Mammals (50 CFR part 216).

Permit No. 782-1676-00 authorizes aerial surveys and live captures of harbor seals and spotted seals in Alaskan waters. Annually, 1000 seals of each species may be captured, sampled, and released. Sampling includes measuring, weighing, flipper punch and tag, pulling vibrissae, and blood sampling. All seals will have a VHF tag applied either as a separate unit or, where possible, embedded in another type of tag. Subsets of the captured animals will also receive time-depth-recorders (TDR), satellite-linked TDRs, blubber/muscle biopsies, and/or still/video packages. The permit also authorizes the incidental harassment of an additional 3500 seals in association with capturing operations and scat collection. Over the course of the 5 year permit, 50 seals may be inadvertently captured a second time. Maximum accidental injury or mortality is three animals per species per year.

Dated: December 9, 2002.
Eugene T. Nitta,
Acting Chief, Permits, Conservation and Education Division, Office of Protected Resources, National Marine Fisheries Service.

[FR Doc. 02-31451 Filed 12-12-02; 8:45 am]

BILLING CODE 3510-22-S